GENERAL SERVICES ADMINISTRATION

41 CFR Part 301-10

[FTR Amendment 2009-01; FTR Case 2009-301; Docket 2009-0001]

RIN 3090-AI84

Federal Travel Regulation; Privately Owned Vehicle Mileage Reimbursement

AGENCY: Office of Governmentwide Policy, General Services Administration (GSA).

ACTION: Final rule.

SUMMARY: GSA is amending the Federal Travel Regulation (FTR) to decrease the mileage reimbursement rates for privately owned automobiles (POA), motorcycles, and airplanes when used for official travel. The new rates reflect the current vehicle operating costs as determined by investigations conducted by GSA. The governing regulation sets the mileage reimbursement allowance for a POA at $0.55, motorcycles at $0.52, and airplanes at $1.24, when used for official purposes.

DATES: Effective Date: This final rule is effective January 15, 2009.

Applicability Date: This final rule is applicable for official travel performed on and after January 1, 2009.

FOR FURTHER INFORMATION CONTACT: The Regulatory Secretariat (VPR), Room 4041, GSA Building, Washington, DC 20405, (202) 501-4755, for information pertaining to status or publication schedules. For clarification of content, contact Ms. Marcerto Barr, Program Analyst, Office of Governmentwide Policy, Travel Management Policy, at (202) 208-7654. Please cite FTR Amendment 2009-01; FTR case 2009-301.

SUPPLEMENTARY INFORMATION:

A. Background

Pursuant to 5 U.S.C. 5707(b), the Administrator of General Services has the responsibility to establish POV mileage reimbursement rates that Federal employees are entitled to when they use a POA, motorcycle or airplane for official business. To set the rates, GSA is required to periodically investigate the cost to Government employees of operating a POV while on official travel, and consult with the Secretaries of Defense and Transportation, and representatives of Government employee organizations. GSA conducted investigative reports on the mileage rates for motorcycles and airplanes. The Internal Revenue Service (IRS) conducted an investigative report on the mileage rates for a POA to compute the deductible cost of operating passenger vehicles for business purposes. GSA analyzed the data in the IRS report and adopted the findings. After consultation with the above-referenced Federal agencies and Government employee organizations, the Administrator of General Services has determined that the per mile operating costs for the official use of a POA (including trucks) is $0.55, $0.52 for motorcycles, and $1.24 for airplanes. As provided in 5 U.S.C. 5704(a)(1), the POA mileage reimbursement rate cannot exceed the single standard mileage rate established by the IRS. The IRS announced a new single standard mileage rate for automobiles of $0.55 per mile effective January 1, 2009. The results of the investigative reports have been reported to Congress.

B. Executive Order 12866

This is not a significant regulatory action, and therefore, was not subject to review under Section 6(b) of Executive Order 12866, Regulatory Planning and Review, dated September 30, 1993. This final rule is not a major rule under 5 U.S.C. 804.

C. Regulatory Flexibility Act

This final rule is not required to be published in the Federal Register for notice and comment, and therefore, the Regulatory Flexibility Act, 5 U.S.C. 601, et seq., does not apply.

D. Paperwork Reduction Act

The Paperwork Reduction Act does not apply because the changes to the FTR do not impose recordkeeping or information collection requirements, or the collection of information from offerors, contractors, or members of the public that require the approval of the Office of Management and Budget (OMB) under 44 U.S.C. 3501, et seq.

E. Small Business Regulatory Enforcement Fairness Act

This final rule is also exempt from congressional review prescribed under 5 U.S.C. 801 since it relates solely to agency management and personnel.

List of Subjects in 41 CFR Part 301-10

Government employees, Travel and transportation expenses.

Dated: January 2, 2009.
James A. Williams,
Acting Administrator of General Services.

For the reasons set forth in the preamble, under 5 U.S.C. 5701-5709, GSA amends 41 CFR part 301-10 as set forth below:

PART 301-10—TRANSPORTATION EXPENSES

1. The authority citation for 41 CFR part 301-10 continues to read as follows:

Authority: 5 U.S.C. 5707, 40 U.S.C. 121 (c); 49 U.S.C. 40118, Office of Management and Budget Circular No. A-126, “Improving the Management and Use of Government Aircraft.” Revised April 28, 2006.

2. Amend the table in § 301-10.303 by revising the second, third, and fourth entries to read as follows:

§ 301-10.303 What am I reimbursed when use of a POV is determined by my agency to be advantageous to the Government?

For use of a . . . | Your reimbursement is . . .
* * * * *
Privately owned airplane | ¹ $1.24
Privately owned automobile | ¹ $0.55
Privately owned motorcycle | ¹ $0.52
¹ Per mile.

Note: This attachment will not appear in the code of Federal Regulations.

Attachment to Preamble

GENERAL SERVICES ADMINISTRATION

REPORTING TO CONGRESS—THE COSTS OF OPERATING PRIVATELY OWNED VEHICLES

Paragraph (b) of Section 5707 of Title 5, United States Code, requires the Administrator of General Services to periodically investigate the cost to Government employees of operating privately owned vehicles (airplanes, automobiles, and motorcycles) while on official business, to report the results of the investigations to Congress, and to publish the report in the Federal Register. This report on privately owned vehicle reimbursement rates is being published in the Federal Register.

Dated: January 2, 2009.

James A. Williams,

Acting Administrator of General Services.

Reporting to Congress—The Costs of Operating Privately Owned Vehicles

5 U.S.C. 5707(b)(1)(A) requires that the Administrator of General Services, in consultation with the Secretary of Defense, the Secretary of Transportation, and representatives of Government employee organizations, conduct periodic investigations of the cost of travel and operation of privately owned vehicles (airplanes, automobiles, and motorcycles) to Government employees while on official business, and report the results to Congress at least once a year. 5 U.S.C. 5707(a)(1) requires that the Administrator of General Services issue regulations, including the prescription of mileage reimbursement rates. Pursuant to 5 U.S.C. 5707(b), the Administrator shall also determine the average, actual cost per mile for the use of each type of privately owned vehicle based on the results of cost investigations. Such figures must be reported to the Congress within 5 working days after the cost determination has been made in accordance with 5 U.S.C. 5707(b)(2)(C).

GSA conducted investigative reports on the mileage rates for motorcycles and airplanes. The Internal Revenue Service (IRS) conducted an investigative report on the mileage rates for a POA to compute the deductible cost of operating passenger vehicles for business purposes. GSA analyzed the data in the IRS report and adopted the findings. As provided in 5 U.S.C. 5704(a)(1), the POA mileage reimbursement rate cannot exceed the single standard mileage rate established by the IRS. The IRS announced the new single standard mileage rate of $0.55 per mile for automobiles, effective January 1, 2009. Based on the investigative reports, and in consultation with the above-specified parties, I have determined that the per mile operating costs for the official use of a POV is as follows: $0.55 for POAs (including trucks), $0.52 for motorcycles, and $1.24 for airplanes. This report to Congress on the cost of operating POVs will be published in the Federal Register.

[FR Doc. E9-563 Filed 1-14-09; 8:45 am]

BILLING CODE 6820-14-P